DEPARTMENT OF THE INTERIOR

Bureau of Indian Affairs

[178A2100DD/AAKC001030/A0A501010.999900 253G]

Water Infrastructure Improvements for the Nation Act; Indian Dam Safety

AGENCY: Bureau of Indian Affairs, Interior.

ACTION: Notice of Tribal consultation.

SUMMARY: The Bureau of Indian Affairs (BIA), Office of Trust Services, Division of Water and Power, will be conducting five consultation sessions to obtain oral and written comments on the implementation of the Water Infrastructure Improvements for the Nation Act with regard to Indian dam safety.

DATES: Written comments must be received by March 3, 2017. Please see the SUPPLEMENTARY INFORMATION section of this document for dates of Tribal consultation sessions.

ADDRESSES: You may submit comments by one of the following methods:

• Email: consultation@bia.gov.

• By hard copy: Submit by U.S. mail or hand delivery to: Ms. Elizabeth Appel, Office of Regulatory Affairs and Collaborative Action, U.S. Department of the Interior, 1849 C Street NW., Mail Stop 3642-MIB, Washington, DC 20240. Please note: If you provide comments by email, there is no need to provide a duplicate hard copy.

Please see the SUPPLEMENTARY INFORMATION section of this notice for information on the Tribal consultation sessions.

FOR FURTHER INFORMATION CONTACT: Yulan Jin, Division Chief, Water and Power, (202) 219-0941, yulan.jin@bia.gov.

SUPPLEMENTARY INFORMATION:

I. Executive Summary

The Water Infrastructure Improvements for the Nation (WIIN) Act became law on December 16, 2016. Section 3101 of the WIIN Act provides for consultation with representatives of affected Indian tribes, as well as the solicitation and consideration of comments and recommendations from landowners served by relevant Indians dams, within 60 days of the Act's passage. Section 3101 also requires the Secretary to submit a report to Congress within 120 days of enactment (by April 14, 2017) on programmatic goals to address the deferred maintenance needs of Indian dams and funding prioritization criteria for distributing funds from the High-Hazard Indian Dam Safety Deferred Maintenance Fund and the Low-Hazard Indian Dam Safety Deferred Maintenance Fund.

Section 3101 establishes a program to address the deferred maintenance needs of Indian dams and authorizes $32.75 million per year ($22.75 million designated for high- and significant-hazard potential dams and $10 million designated for low-hazard potential dams), plus accrued interest, for each of the fiscal years 2017 through 2023. Subject to appropriation, the funds would be available to carry out maintenance, repair, and replacement activities for qualified Indian dams.

Eligible high-hazard potential dams are those included in the safety of dams program established under the Indian Dams Safety Act of 1994 that are either: (1) Owned by the Federal Government and managed by BIA, including dams managed under Indian Self-Determination contracts or compacts; or (2) have deferred maintenance documented by BIA. Eligible low-hazard potential dams are those covered under the Indian Dams Safety Act of 1994 and are either: (1) Owned by the Federal Government and managed by BIA, including dams managed under Indian Self-Determination contracts or compacts; or (2) have deferred maintenance documented by BIA.

II. Tribal Consultation Sessions

The BIA will be hosting three in-person Tribal consultation sessions. Additionally, two webinars will be held for Tribes unable to make an in-person session. Tribes were notified of these consultation sessions by letter. Tribes potentially affected by the Indian Dam Safety component of the WIIN Act include all Tribes because, while BIA has an inventory of high-hazard potential dams, no such inventory yet exists for low-hazard potential dams. For this reason, BIA also asks that Tribes notify the person listed in the FOR FURTHER INFORMATION CONTACT section of this notice of any low-hazard potential dams subject to the Indian Dams Act of 1994.

Tribal consultation sessions will be held on the following dates at the following locations:

Date | Time | Location
Monday, February 6, 2017 | 1 p.m.-5 p.m. Local Time | Bureau of Indian Affairs, Medicine Wheel Room—Third Floor, 2021 4th Avenue North, Billings, MT 59101.
Wednesday, February 8, 2017 | 1 p.m.-5 p.m. Local Time | Indian Pueblo Cultural Center, Silver/Turquoise Conference Room, 2401 12th Street NW., Albuquerque, NM 87104.
Friday, February 10, 2017 | 1 p.m.-5 p.m. Local Time | Bureau of Indian Affairs, Federal Building Auditorium, 911 NE 11th Avenue, Portland, OR 97232.
Monday, February 13, 2017 | 1 p.m.-4 p.m. Eastern Time | Call-in number: (888) 810-4934, Passcode: 7199390.
Wednesday, February 15, 2017 | 1 p.m.-4 p.m. Eastern Time | Call-in number: (888) 810-4934, Passcode: 7199390.

BIA is developing drafts of the programmatic goals and funding prioritization criteria for discussion at the consultation sessions. These documents will be available at https://www.bia.gov/WhoWeAre/BIA/OTS/IPSOD/index.htm by January 23, 2017 to allow time to review prior to the first session.

Dated: January 27, 2017.
Michael S. Black,
Acting Assistant Secretary—Indian Affairs.

[FR Doc. 2017-02200 Filed 2-1-17; 8:45 am]

BILLING CODE 4337-15-P